DEPARTMENT OF HEALTH AND HUMAN SERVICES

Centers for Disease Control and Prevention

Subcommittee for Dose Reconstruction Reviews (SDRR), Advisory Board on Radiation and Worker Health (ABRWH, or Advisory Board), National Institute for Occupational Safety and Health (NIOSH)

In accordance with section 10(a)(2) of the Federal Advisory Committee Act (Pub. L. 92-463), the Centers for Disease Control and Prevention (CDC) announces the following meeting for the aforementioned committee and subcommittee:

Subcommittee Meeting Time and Date: 9 a.m.-11:30 a.m., October 3, 2007.

Board Meeting Times and Dates: 1 p.m.-4:30 p.m., October 3, 2007. 9:30 a.m.-5 p.m., October 4, 2007. 8:30 a.m.-2:30 p.m., October 5, 2007.

Public Comment Times and Dates: 5 p.m.-6 p.m., October 3, 2007.

7:30 p.m.-8:30 p.m., October 4, 2007.

Place: Holiday Inn Select, 1801 N. Naper Blvd, Naperville, Illinois 60563. Telephone 630.505.4900, Fax 630.505.1984.

Status: Open to the public, limited only by the space available. The meeting space accommodates approximately 75 to 100 people.

Background: The Advisory Board was established under the Energy Employees Occupational Illness Compensation Program (EEOICP) Act of 2000 to advise the President on a variety of policy and technical functions required to implement and effectively manage the new compensation program. Key functions of the Advisory Board include providing advice on the development of probability of causation guidelines which have been promulgated by the Department of Health and Human Services (HHS) as a final rule, advice on methods of dose reconstruction which have also been promulgated by HHS as a final rule, advice on the scientific validity and quality of dose estimation and reconstruction efforts being performed for purposes of the compensation program, and advice on petitions to add classes of workers to the Special Exposure Cohort (SEC).

In December 2000, the President delegated responsibility for funding, staffing, and operating the Advisory Board to HHS, which subsequently delegated this authority to the CDC. NIOSH implements this responsibility for CDC. The charter was issued on August 3, 2001, renewed at appropriate intervals, and will expire on August 3, 2009.

Purpose: This Advisory Board is charged with (a) Providing advice to the Secretary, HHS, on the development of guidelines under Executive Order 13179; (b) providing advice to the Secretary, HHS, on the scientific validity and quality of dose reconstruction efforts performed for this program; and (c) upon request by the Secretary, HHS, advise the Secretary on whether there is a class of employees at any Department of Energy facility who were exposed to radiation but for whom it is not feasible to estimate their radiation dose, and on whether there is reasonable likelihood that such radiation doses may have endangered the health of members of this class.

Matters To Be Discussed: The topics for the Subcommittee meeting will be to Review the Dose Reconstruction and Future Subcommittee Plan Actions. The agenda for the Advisory Board meeting includes Discussion on NIOSH Web site; Update on Science Issues; Discussion of Board Procedures; Discussion of the overall tracking system for Board activities; SEC Petitions to be considered for Y-12, Hanford, Sandia National Lab-Livermore, Nuclear Materials and Equipment Corporation (NUMEC); Work Group Updates; Planning for Board Future Activities; SEC Petitions Updates including Blockson Chemical, Fernald, Chapman Valve, Dow Chemical, and Bethlehem Steel; Update on Rocky Flats Follow Up Actions; Plans to Procure Board Contractors for FY09, and Agency Updates.

The agenda is subject to change as priorities dictate.

In the event an individual cannot attend, written comments may be submitted. Any written comments received will be provided at the meeting and should be submitted to the contact person below well in advance of the meeting.

For Further Information Contact: Dr. Lewis V. Wade, Executive Secretary, NIOSH, CDC, 4676 Columbia Parkway, Cincinnati, Ohio 45226, Telephone 513.533.6825, Fax 513.533.6826.

The Director, Management Analysis and Services Office, has been delegated the authority to sign Federal Register notices pertaining to announcements of meetings and other committee management activities, for both CDC and the Agency for Toxic Substances and Disease Registry.

Dated: September 12, 2007.
Elaine L. Baker,
Acting Director, Management Analysis and Services Office, Centers for Disease Control and Prevention.

[FR Doc. E7-18417 Filed 9-18-07; 8:45 am]

BILLING CODE 4163-18-P